DEPARTMENT OF ENERGY

[OE Docket No. PP-334]

Notice of Intent To Prepare an Environmental Assessment and To Conduct Public Scoping Meetings; Baja Wind U.S. Transmission, LLC

AGENCY: Office of Electricity Delivery and Energy Reliability, DOE.

ACTION: Notice of Intent To Prepare an Environmental Assessment (EA) and To Conduct Public Scoping Meetings.

SUMMARY: The Department of Energy (DOE) will prepare an EA and hold public scoping meetings on the proposed Federal action of granting a Presidential permit to Baja Wind U.S. Transmission, LLC (Baja Wind) to construct a new electric transmission line at the U.S.-Mexico border in San Diego County, California, near the community of Jacumba. The proposed international transmission line would originate at a wind generation facility to be located in northern Baja California, Mexico, cross the U.S.-Mexico international border, and extend one mile into the U.S. where it would terminate at a substation to be constructed by San Diego Gas & Electric Company (SDG&E) adjacent to the existing Southwest Powerlink (SWPL) 500-kV transmission line, located in San Diego County, California. Baja Wind has applied to DOE's Office of Electricity Delivery and Energy Reliability (OE) for a Presidential permit to construct either a double-circuit 230-kilovolt (kV) or a single-circuit 500-kV electric transmission line across the U.S. border with Mexico.

The EA, entitled Baja Wind U.S. Transmission Environmental Assessment (DOE/EA-399) will address potential environmental impacts from the proposed action and the range of reasonable alternatives. The EA will be prepared in compliance with the National Environmental Policy Act of 1969 (NEPA) and applicable regulations, including Council on Environmental Quality NEPA Implementing Regulations (40 CFR parts 1500-1508) and DOE NEPA implementing regulations at 10 CFR Part 1021. It will help DOE determinie whether to prepare an EIS. Given that the proposed transmission line is short, and that the imports into the U.S. appear to be small, DOE believes an EA is appropriate.

DOE invites the public to participate in determining the scope of the EA by suggesting alternatives and pointing out potential environmental impacts. If at any time during preparation of the EA DOE determines that an environmental impact statement (EIS) is needed, DOE will issue a Notice of Intent to prepare an EIS in the Federal Register. In that case, this scoping process will serve as the scoping process that normally would follow a Notice of Intent to prepare an EIS. Accordingly, DOE will consider any comments on the scope of the EA received during this scoping process in preparing such an EIS.

DATES: DOE invites interested agencies, organizations, Native American tribes, and members of the public to submit comments or suggestions to assist in identifying any potentially significant environmental issues and in determining the scope of the EA. The public scoping period starts with the publication of this Notice in the Federal Register and will continue until September 3, 2008. DOE will consider all comments received or postmarked by September 3, 2008 in defining the scope of the EA. Comments received or postmarked after that date will be considered to the extent practicable.

Public scoping meetings will be held on August 26, 2008, from 1 p.m. to 3 p.m., and again from 5 p.m. to 7 p.m., at the Jacumba Highland Center, 44681 Old Highway 80, Jacumba, California.

ADDRESSES: Written comments or suggestions on the scope of the EA should be addressed to: Mrs. Ellen Russell, Office of Electricity Delivery and Energy Reliability (OE-20), U.S. Department of Energy, 1000 Independence Avenue, SW., Washington, DC 20585-0350; phone 202-586-9624, facsimile at 202-586-8008, or electronic mail at Ellen.Russell@hq.doe.gov.

FOR FURTHER INFORMATION: For further information on the proposed project, on the Presidential permit process, or to receive a copy of the pre-approval EA when it is issued for state and public review, contact Ellen Russell at the address listed in the ADDRESSES section of this notice. The Baja Wind Presidential permit application, including associated maps and drawings, can be downloaded in its entirety from the OE program Web site http://www.oe.energy.gov/permits.htm.

For general information on the DOE NEPA process, please contact: Carol M. Borgstrom, Director, Office of NEPA Policy and Compliance (GC-20), U.S. Department of Energy, 1000 Independence Avenue, SW., Washington, DC 20585-0103; phone 202-586-4600, leave a message at 800-472-2756, or facsimile to 202-586-7031.

SUPPLEMENTARY INFORMATION: Executive Order (EO) 10485, as amended by EO 12038, requires that a Presidential permit be issued by DOE before electric transmission facilities may be constructed, operated, maintained, or connected at the U.S. international border. The EO provides that a Presidential permit may be issued after a finding that the proposed project is consistent with the public interest and after favorable recommendations from the U.S. Departments of State and Defense. In determining consistency with the public interest, DOE considers the environmental impacts of the proposed project under NEPA, determines the project's impact on electric reliability (including whether the proposed project would adversely affect the operation of the U.S. electric power supply system under normal and contingency conditions), and considers any other factors that DOE may find relevant to the public interest. The regulations implementing the EO have been codified at 10 CFR 205.320-205.329. DOE's issuance of a Presidential permit indicates that there is no Federal objection to the project, but does not mandate that the project be undertaken.

Agency Purpose and Need, Proposed Action, and Alternatives

The purpose and need for DOE's action is to decide whether to grant Baja Wind's application for a Presidential permit for the proposed international electric transmission line. DOE's proposed action is to issue a Presidential permit for the construction, operation, maintenance, and connection of the proposed international electric transmission line. If granted, the Presidential permit would authorize only the one-mile portion of the applicant's proposal that would be constructed and operated wholly within the United States.

Both of Baja Wind's alternatives would cross the U.S.-Mexican border at the same location. However, the alternative identified as A1 in the Presidential permit application would be constructed at 500-kV and would be the eastern alternative; the alternative identified as A2 would be constructed at 230-kV and be located to the west of the A1 alternative. Both alternatives would be located wholly within private property in eastern San Diego County near the unincorporated community of Jacumba. In addition to the alternatives proposed by Baja Wind, DOE will consider reasonable alternatives that are identified during scoping. The EA will also consider the environmental impacts of a “No Action” alternative.

Baja Wind's proposed transmission line would connect wind turbines (the La Rumorosa Project) to be located in the vicinity of La Rumorosa, Baja California, Mexico, to San Diego Gas & Electric's existing Southwest Powerlink transmission line. The proposed transmission line would consist of either a double-circuit 230-kV or a single-circuit 500-kV transmission line installed on either lattice towers or steel monopoles. The La Rumorosa Project and the two-mile portion of transmission facilities located in Mexico would be constructed, owned, operated, and maintained by a subsidiary of Sempra Energy Mexico and would be subject to the permitting requirements of the Mexican Government. The proposed one-mile long transmission line within the United States would be on private land and constructed, owned, operated, and maintained by Baja Wind. The entire electrical output of the La Rumorosa Project (1250 megawatts, approximately 260 to 300 turbines) would be dedicated to the U.S. market and delivered using the proposed international transmission line. The EA will only consider impacts that occur inside the United States.

Baja Wind's proposed transmission line would connect to a new substation to be constructed by SDG&E in response to requests by power suppliers to connect to the SWPL. The proposed substation would be located just south of the SWPL right-of-way and would contain equipment for accepting interconnections at both the 230-kV and the 500-kV level. The 230-kV connection equipment would be located just to the west of the 500-kV connection equipment, both within the confines of the substation boundary. Accordingly, Baja Wind has identified two routing/voltage alternatives to coincide with interconnection at 230-kV or the 500 kV level.

Identification of Environmental Issues

In the EA, DOE will examine public health and safety effects and environmental impacts in the United States from the proposed transmission facilities and from the wind farm to the extent that any impacts from it occur within the United States. DOE invites Tribal governments, Federal, State and local agencies, and those entities with jurisdiction by law or special expertise with respect to environmental issues to be cooperating agencies in the preparation of the EA, as defined at 40 CFR 1501.6.

This notice is to inform the public of the proposed project and to solicit comments and suggestions for consideration in the preparation of the EA. To help the public frame its comments, this notice contains a preliminary list of potential environmental issues that DOE has tentatively identified for analysis. These issues include:

1. Impacts on protected, threatened, endangered, or sensitive species of animals or plants, or their critical habitats, e.g., the quino checkerspot butterfly and migratory birds;

2. Impacts on cultural or historic resources;

3. Impacts on human health and safety;

4. Impacts on air, soil, and water;

5. Visual impacts;

6. Socioeconomic impacts;

7. Disproportionately high and adverse impacts on minority and low-income populations;

8. Impacts that would accrue to the U.S. as a result of related activities occurring inside Mexico (e.g., dust from the construction process inside Mexico or location of wind generators within view of the U.S.); and

9. Cumulative impacts.

On February 22, 2008, DOE published a notice in the Federal Register (73 FR 9782) announcing receipt of the Baja Wind Presidential permit application and soliciting public comments. Comments received on that notice identified potential environmental impacts that may be associated with this proposed project, for example, impacts on threatened or endangered species, critical habitat, and migratory birds.

Several commenters in this proceeding have asked DOE to evaluate the impacts associated with activities that will occur inside Mexico (e.g., from the construction and operation in Mexico of the wind generators). NEPA does not require an analysis of environmental impacts that occur within another sovereign nation that result from approved actions by that sovereign nation. The EA will evaluate all relevant environmental impacts within the U.S. related to the proposed action.

Scoping Process

Interested parties are invited to participate in the scoping process both to refine the environmental issues to be analyzed and to identify the reasonable range of alternatives. Both oral and written comments will be considered and given equal weight by DOE.

Public scoping meetings will be held at the location, date, and times indicated above under the DATES section. The scoping meetings will provide interested parties the opportunity to view proposed project exhibits, ask questions, and comment on the EA scope. The DOE presiding officer will establish only those procedures needed to ensure that everyone who wishes to speak has a chance to do so and that DOE understands all issues and comments. Speakers will be allocated approximately 10 minutes for their oral statements. Persons who have not submitted a request to speak in advance may register to speak at the scoping meetings, but advance requests are encouraged. Should any speaker desire to provide further information that cannot be presented within the designated time, such additional information may be submitted in writing by the date listed in the DATES section. Both oral and written comments will be considered and given equal weight by DOE.

The pre-approval EA is planned to be issued for state and public review by the spring of 2009. Persons submitting comments during the scoping process will receive a copy. Persons who do not wish to submit comments or suggestions at this time but who would like to receive a copy of the document for review when it is issued should notify Ellen Russell at the address provided above.

Issued in Washington, DC, on July 30, 2008.
Kevin M. Kolevar,
Assistant Secretary, Office of Electricity Delivery and Energy Reliability.

[FR Doc. E8-17840 Filed 8-1-08; 8:45 am]

BILLING CODE 6450-01-P